DEPARTMENT OF EDUCATION

[CFDA No. 84.333]

Demonstration Projects To Ensure Students With Disabilities Receive a Quality Higher Education; Notice inviting applications for new awards for fiscal year (FY) 2002

Purpose of Program: The Demonstration Projects to Ensure Students with Disabilities Receive a Quality Higher Education program provides grants to institutions of higher education (IHEs) to develop innovative demonstration projects. The purpose of the demonstration program is to provide technical assistance and professional development for faculty and administrators in IHEs in order to provide them with the skills and supports that they need to teach students with disabilities. The program will also be used to widely disseminate research and training to enable faculty and administrators in other IHEs to meet the educational needs of students with disabilities.

Eligible Applicants: Institutions of higher education.

Applications Available: June 21, 2002.

Deadline for Transmittal of Applications: July 22, 2002.

Deadline for Intergovernmental Review: September 19, 2002.

Available Funds: $6,930,000.

Estimated Range of Awards: $100,000-$350,000.

Estimated Average Size of Awards: $100,000-$290,000.

Estimated Number of Awards: 24.

Note: The Department is not bound by any estimates in this notice.

Project Period: Up to 36 months.

Page Limit: The application narrative is where you, the applicant, address the selection criteria that reviewers use to evaluate your application. While we encourage applicants to limit their narrative to no more than the equivalent of 25 pages, your application may not exceed the equivalent of more than 40 pages. For the application narrative, the following standards apply:

• A “page” is 8.5″ x 11″, on one side only, with 1″ margins at the top, bottom, and both sides.

• Double space (no more than three lines per vertical inch) all text, including titles, headings, quotations, references, and captions.

• Use a font that is either 12-point or larger or no smaller that 10 pitch (characters per inch).

• For tables, charts, or graphs also use a font that is either 12-point or larger or not smaller than 10 pitch.

Our reviewers will not read any pages of your application that—

• Exceed the page limit if you apply these standards; or

• Exceed the equivalent of the page limit if you apply other standards.

Applicable Regulations: The Education Department General Administrative Regulations (EDGAR) in 34 CFR parts 74, 75, 77, 79, 82, 85, 86, 97, 98 and 99.

Because there are no program specific regulations for the Demonstration Projects to Ensure Students with Disabilities Receive a Quality Higher Education program, applicants should refer to the authorizing statute in Part D, Title VII, of the Higher Education Act of 1965, as amended (HEA). In preparing applications, IHEs should pay particular attention to the requirements in section 427 of the General Education Provisions Act (GEPA), as detailed later in this notice. Applicants must address the requirements in section 427 in order to receive funding under this competition. Section 427 requires each applicant to describe the steps they propose to take to address one or more barriers (i.e., gender, race, national origin, color, disability, or age) that can impede equitable access to, or participation in, the program. A restatement of compliance with civil rights requirements is not sufficient to meet the requirements in section 427 of GEPA.

Application Procedures

Note: Some of the procedures in these instructions for transmitting applications differ from those in the Education Department General Administrative Regulations (EDGAR)(34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

Pilot Project for Electronic Submission of Applications

In Fiscal Year 2002, the U.S. Department of Education is continuing to expand its pilot project of electronic submission of applications to include additional formula grant programs and additional discretionary grant competitions. The Demonstration Projects to Ensure Students with Disabilities Receive a Quality Higher Education Program, CFDA 84.333, is one of the programs included in the pilot project. If you are an applicant under the Demonstration Projects to Ensure Students with Disabilities Receive a Quality Higher Education Program, you may submit your application to us in either electronic or paper format.

The pilot project involves the use of the Electronic Grant Application System (e-APPLICATION, formerly e-GAPS) portion of the Grant Administration and Payment System (GAPS). We request your participation in this pilot project. We shall continue to evaluate its success and solicit suggestions for improvement.

If you participate in the e-APPLICATION pilot, please note the following:

• Your participation is strictly voluntary.

• You will not receive any additional point value or penalty because you submit a grant application in electronic or paper format.

• You must submit all grant documents electronically including the Application for Federal Assistance (ED 424), the Budget Information—Non-Construction Programs (ED 524), and all necessary assurances and certifications.

Within three working days of submitting your electronic application, fax a signed copy of the Application for Federal Assistance to the Application Control Center after following these steps:

1. Print ED 424 from the e-APPLICATION system.

2. Make sure that the institution's Authorizing Representative signs this form.

3. Before faxing this form, submit your electronic application via the e-APPLICATION system. You will receive an automatic acknowledgement, which will include a PR/Award number (an identifying number unique to your application).

4. Place the PR/Award number in the upper right hand corner of ED 424.

5. Fax the ED 424 to the Application Control Center at (202) 260-1349.

• We may request that you give us original signatures on all other forms at a later date.

You may access the electronic grant application for the Demonstration Projects to Ensure Student With Disabilities Receive a Quality Higher Education Program at http://e-grants.ed.gov.

We have included additional information about the e-APPLICATION pilot project (see Parity Guidelines between Paper and Electronic Application) in the application package.

For Applications Contact: Education Publications Center (ED Pubs), P.O. Box 1398, Jessup, MD 20794-1398. Telephone (toll free): 1-877-433-7827. FAX: (301) 470-1244. If you use a telecommunications device for the deaf (TDD), you may call (toll free): 1-877-576-7734.

You may also contact EDPUBS at its web site: http://www.ed.gov/pubs/edpuds.html.

Or you may contact ED Pubs at its e-mail address: edpubs@inet.ed.gov.

If you request an application from Ed Pubs, be sure to identify this competition as follows: CFDA number 84.333.

FOR FURTHER INFORMATION CONTACT: Shedita Ford, U.S. Department of Education, 1990 K Street, NW., Room 6147, Washington, DC 20006-8525. Telephone: (202) 502-7808 or via Internet: Shedita.Ford@ed.gov.

If you use a telecommunications device for the deaf (TDD), you may call the Federal Information Relay Service (FIRS) at 1-800-877-8339.

Individuals with disabilities may obtain this document in an alternative format (e.g., Braille, large print, audiotape, or computer diskette) on request to the program contact person listed under FOR FURTHER INFORMATION CONTACT.

Individuals with disabilities may obtain a copy of the application package in an alternative format by contacting that person. However, the Department is not able to reproduce in an alternate format the standard forms included in the application package.

Electronic Access to This Document

You may view this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html.

Program Authority: 20 U.S.C. 1140 et seq. Title VII, Part D of the Higher Education Act of 1965, as amended.

Dated: June 18, 2002.
Sally L. Stroup,
Assistant Secretary, Office of Postsecondary Education.

[FR Doc. 02-15728 Filed 6-20-02; 8:45 am]

BILLING CODE 4000-01-P